DEPARTMENT OF ENERGY

Federal Energy Regulatory Commission

[Docket No. ER02-505-000]

Cambridge Electric Light Company, Central Maine Power Company, The Connecticut Light and Power Company, New England Power Company, Public Service Company of New Hampshire, Western Massachusetts Electric Company; Notice of Filing

December 17, 2001.

Take notice that on December 11, 2001, New England Power Company (NEP), on behalf of itself and Cambridge Electric Light Company, Central Maine Power Company, The Connecticut Light and Power Company, Public Service Company of New Hampshire and Western Massachusetts Electric Company (Sponsors) submitted for filing a corrected transmittal letter for Notice of Cancellations of certain power contracts, originally filed on December 7, 2001. The corrections include no substantive changes.

The Sponsors state that this filing has been served upon each of the parties originally served in this proceeding on December 7, 2001.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before the comment date. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Comment Date: January 2, 2002.

Linwood A. Watson, Jr.,
Acting Secretary.

[FR Doc. 01-31467 Filed 12-20-01; 8:45 am]

BILLING CODE 6717-01-P